DEPARTMENT OF AGRICULTURE

National Agricultural Library

Notice of Intent to Seek Approval to Collect Information

AGENCY: Agricultural Research Service, National Agricultural Library, USDA.

ACTION: Notice and request for comments.

SUMMARY: In accordance with the Paperwork Reduction Act of 1995 (Pub. L. 104-13) and Office of Management and Budget (OMB) regulations at 5 CFR Part 1320 (60 FR 44978, August 29, 1995), this notice announces the National Agricultural Library's intent to request approval for a new information collection relating to existing nutrition education and training materials targeting low-income persons. This voluntary form would give Food Stamp nutrition education providers the opportunity to share resources that they have developed or used.

DATES: Comments on this notice must be received by May 23, 2002, to be assured of consideration.

ADDRESSES: Address all comments concerning this notice to Alicie H. White, Technical Information Specialist, Food and Nutrition Information Center, National Agricultural Library, 10301 Baltimore Avenue, Beltsville, MD, 20705-2351, Comments may be sent by facsimile to (301) 504-6053, or fax (301) 504-6409.

Submit electronic comments to awhite@nal.usda.gov

FOR FURTHER INFORMATION CONTACT: Alice H. White, (301) 504-6053.

SUPPLEMENTARY INFORMATION:

Title: Food Stamp Nutrition Connection Resource Sharing Form.

OMB Number: Not yet assigned.

Expiration Date: N/A.

Type of Request: Approval for new data collection from Food Stamp nutrition education providers.

Abstract: This voluntary “Sharing Form” would give Food Stamp nutrition education providers the opportunity to share information about resources that they have developed or used. Data collected using this form will help the Food and Nutrition Information Center (FNIC) identify existing nutrition education and training resources for review and inclusion in an online database. Educators can then search this database via the Food Stamp Nutrition Connection web site < http://www.nal.usda.gov/fnic/foodstamp/> . In 2001, the United States Department of Agriculture's (USDA) Food and Nutrition Service established the Food Stamp Nutrition Connection to improve access to Food Stamp Program nutrition resources. Educators nationwide can use this site to identify curricula, lesson plans, research, training tools and participant materials. Developed and maintained at the National Agricultural Library's FNIC, this resource system helps educators find the tools and information they need to provide quality nutrition education for low-income audiences.

The Sharing Form will be available for completion online at the Food Stamp Nutrition Connection web site. Individuals may also print the form and return it via fax or mail. The form consists of four parts. These various sections include: Part 1 consisting of three questions about the responder; Part 2 with nine questions about the resource; Part 3 with five questions about resource development; and Part 4 with six questions about ordering/obtaining the resource. Responders are asked to complete only relevant sections of the form. Instructions about which sections to complete, based on one's relationship to the resource, are provided in Part 1. For instance, those that use resource but are neither it's developer nor distributor would only complete Parts 1 and 2.

This form will enable FNIC to inform nutrition educators of existing nutrition education and training materials targeting low-income Americans. This identification of existing materials will help educators spend their monies wisely in the development of needed educational resources.

Estimate of Burden: Public reporting burden for this collection of information is estimated to average 0.7 minutes per response.

Respondents: Food Stamp nutrition education providers.

Estimated Number of Respondents: 50 per year.

Estimated Total Annual Burden on Respondents: 16 hrs.

Comments are invited on (a) Whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: February 18, 2002.
Caird E. Rexroad,
Acting Associate Administrator.

[FR Doc. 02-6591 Filed 3-18-02; 8:45 am]

BILLING CODE 3410-03-P